DEPARTMENT OF HOMELAND SECURITY

Federal Emergency Management Agency

44 CFR Part 67

[Docket ID FEMA-2011-0002; Internal Agency Docket No. FEMA-B-1007]

Proposed Flood Elevation Determinations

AGENCY: Federal Emergency Management Agency, DHS.

ACTION: Proposed rule; correction.

SUMMARY: On September 25, 2008, FEMA published in the Federal Register a proposed rule that contained an erroneous table. This notice provides corrections to that table, to be used in lieu of the information published at 73 FR 55469. The table provided here represents the flooding sources, location of referenced elevations, effective and modified elevations, and communities affected for Henderson County, Kentucky, and Incorporated Areas. Specifically, it addresses the flooding sources Canoe Creek, Canoe Creek Tributary 1 (backwater effects from Ohio River), Cash Creek (backwater effects from Ohio River), Elam Ditch, Elam Ditch Tributary 1, Elam Ditch Tributary 1.1 (backwater effects from Elam Ditch Tributary 1), Elam Ditch Tributary 2, Elam Ditch Tributary 3, Elam Ditch Tributary 4 (backwater effects from Elam Ditch), Elam Ditch Tributary 8 (backwater effects from Elam Ditch), Grane Creek (backwater effects from Ohio River), Grane Creek Tributary 1 (backwater effects from Ohio River), Grane Creek Tributary 5 (backwater effects from Ohio River), Kimsey Lane Left Tributary, Kimsey Lane Right Tributary, Lick Creek (backwater effects from Ohio River), Lick Creek Tributary 2 (backwater effects from Ohio River), Lick Creek Tributary 2.1 (backwater effects from Ohio River), Lick Creek Tributary 4 (backwater effects from Ohio River), Middle Canoe Creek, North Fork Canoe Creek, Ohio River, Old Knoblick Road Creek (backwater effects from Ohio River), Pond Creek (overflow effects from Ohio River), Pond Creek Tributary 6 (overflow effects from Ohio River), Race Creek (backwater effects from Ohio River), Sellers Ditch, Sputzman Creek (backwater effects from Ohio River), Sputzman Creek Tributary 1 (backwater effects from Ohio River), Sputzman Creek Tributary 2 (backwater effects from Ohio River), Sugar Creek (backwater effects from Ohio River), Tiger Ditch (formerly Highway 812 Tributary), Tiger Ditch Tributary 1, and Upper Canoe Creek.

DATES: Comments are to be submitted on or before October 27, 2011.

ADDRESSES: You may submit comments, identified by Docket No. FEMA-B-1007, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the Proposed Rule published at 73 FR 55469 in the September 25, 2008, issue of the Federal Register, FEMA published a table under the authority of 44 CFR 67.4. The table, entitled “Henderson County, Kentucky, and Incorporated Areas” addressed the following flooding sources: Canoe Creek, Elam Ditch, Elam Ditch Tributary 1, Elam Ditch Tributary 2, Elam Ditch Tributary 3, Kimsey Lane Left Tributary, Kimsey Lane Right Tributary, Middle Canoe Creek, North Fork Canoe Creek, Sellers Ditch, Tiger Ditch (Formerly Highway 812 Tributary), Tiger Ditch Tributary 1 and Upper Canoe Creek. That table contained inaccurate information as to the location of referenced elevation, effective and modified elevation in feet, and/or communities affected for those flooding sources: In addition, it did not include the following flooding sources: Canoe Creek Tributary 1 (backwater effects from Ohio River), Cash Creek (backwater effects from Ohio River), Elam Ditch Tributary 1.1 (backwater effects from Elam Ditch Tributary 1), Elam Ditch Tributary 4 (backwater effects from Elam Ditch), Elam Ditch Tributary 8 (backwater effects from Elam Ditch), Grane Creek (backwater effects from Ohio River), Grane Creek Tributary 1 (backwater effects from Ohio River), Grane Creek Tributary 5 (backwater effects from Ohio River), Lick Creek (backwater effects from Ohio River), Lick Creek Tributary 2 (backwater effects from Ohio River), Lick Creek Tributary 2.1 (backwater effects from Ohio River), Lick Creek Tributary 4 (backwater effects from Ohio River), Ohio River, Old Knoblick Road Creek (backwater effects from Ohio River), Pond Creek (overflow effects from Ohio River), Pond Creek Tributary 6 (overflow effects from Ohio River), Race Creek (backwater effects from Ohio River), Sputzman Creek (backwater effects from Ohio River), Sputzman Creek Tributary 1 (backwater effects from Ohio River), Sputzman Creek Tributary 2 (backwater effects from Ohio River), and Sugar Creek (backwater effects from Ohio River). In this notice, FEMA is publishing a table containing the accurate information, to address these prior errors. The information provided below should be used in lieu of that previously published.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Henderson County, Kentucky, and Incorporated Areas
Canoe Creek | At the upstream side of U.S. Route 41 | None | +376 | City of Henderson, Unincorporated Areas of Henderson County.
| At the Elam Ditch confluence | None | +383
Canoe Creek Tributary 1 (backwater effects from Ohio River) | From approximately 500 feet upstream of the Canoe Creek confluence to approximately 900 feet upstream of KY-136 | None | +376 | City of Henderson, Unincorporated Areas of Henderson County.
Cash Creek (backwater effects from Ohio River) | From the Green River confluence to approximately 800 feet upstream of Griffin and Griffin Road | None | +386 | Unincorporated Areas of Henderson County.
Elam Ditch | At the Canoe Creek confluence | None | +383 | Unincorporated Areas of Henderson County.
| At Airline Road (KY-812) | None | +393
Elam Ditch Tributary 1 | At the Elam Ditch confluence | None | +384 | Unincorporated Areas of Henderson County.
| Approximately 1,250 feet downstream of Toy Anthoston Road (KY-2677) | None | +395
Elam Ditch Tributary 1.1 (backwater effects from Elam Ditch Tributary 1) | From the Elam Ditch Tributary 1 confluence to approximately 1,200 feet upstream of the Elam Ditch Tributary 1 confluence | None | +384 | Unincorporated Areas of Henderson County.
Elam Ditch Tributary 2 | At the Elam Ditch confluence | None | +384 | Unincorporated Areas of Henderson County.
| At the downstream side of Airline Road (KY-812) | None | +395
Elam Ditch Tributary 3 | At the Elam Ditch confluence | None | +384 | Unincorporated Areas of Henderson County.
| At the downstream side of Toy Anthoston Road | None | +389
Elam Ditch Tributary 4 (backwater effects from Elam Ditch) | From the Elam Ditch confluence to approximately 0.5 mile upstream of the Elam Ditch confluence | None | +383 | Unincorporated Areas of Henderson County.
Elam Ditch Tributary 8 (backwater effects from Elam Ditch) | From the Elam Ditch confluence to approximately 1,100 feet upstream of the Elam Ditch confluence | None | +393 | Unincorporated Areas of Henderson County.
Grane Creek (backwater effects from Ohio River) | From approximately 1,200 feet downstream of Quinns Landing Road to approximately 1.0 mile upstream of Quinns Landing Road | None | +386 | Unincorporated Areas of Henderson County.
Grane Creek Tributary 1 (backwater effects from Ohio River) | From approximately 0.2 mile downstream of Quinns Landing Road to the upstream side of Quinns Landing Road | None | +386 | Unincorporated Areas of Henderson County.
Grane Creek Tributary 5 (backwater effects from Ohio River) | From the Grane Creek confluence to approximately 1,800 feet upstream of the Grane Creek confluence | None | +386 | City of Robards, Unincorporated Areas of Henderson County.
Kimsey Lane Left Tributary | At the North Fork Canoe Creek confluence | +387 | +388 | City of Henderson, Unincorporated Areas of Henderson County.
| Approximately 750 feet upstream of Van Wyk Road | +387 | +388
Kimsey Lane Right Tributary | At the North Fork Canoe Creek confluence | +387 | +388 | City of Henderson, Unincorporated Areas of Henderson County.
| At Kimsey Lane (KY-6112) | +387 | +388
Lick Creek (backwater effects from Ohio River) | From the upstream side of Sportsville-Bluff City Road to approximately 1.1 miles downstream of Zion Rd | None | +383 | Unincorporated Areas of Henderson County.
Lick Creek Tributary 2 (backwater effects from Ohio River) | From the Lick Creek confluence to the downstream side of Zion Road | None | +383 | Unincorporated Areas of Henderson County.
Lick Creek Tributary 2.1 (backwater effects from Ohio River) | From the Lick Creek Tributary 2 confluence to approximately 1,600 feet upstream of the Lick Creek Tributary 2 confluence | None | +383 | Unincorporated Areas of Henderson County.
Lick Creek Tributary 4 (backwater effects from Ohio River) | From the Lick Creek confluence to approximately 0.9 mile upstream of the Lick Creek confluence | None | +383 | Unincorporated Areas of Henderson County.
Middle Canoe Creek | At the Sellers Ditch confluence | +379 | +382 | City of Henderson, Unincorporated Areas of Henderson County.
| At the Elam Ditch confluence | +380 | +382
North Fork Canoe Creek | At the Canoe Creek confluence | +378 | +382 | City of Henderson, Unincorporated Areas of Henderson County.
| Approximately 4,000 feet upstream of Kimsey Lane (KY-6112) | +387 | +389
Ohio River | Approximately 2.4 miles upstream of the northwest county boundary (at River Mile Marker 829.7) | +371 | +372 | City of Henderson, Unincorporated Areas of Henderson County.
| Approximately 5.0 miles upstream of the northeast county boundary (at River Mile Marker 766.5) | +385 | +386
Old Knoblick Road Creek (backwater effects from Ohio River) | From approximately 0.6 mile downstream of Knoblick Road to approximately 800 feet downstream of Knoblick Road | None | +386 | Unincorporated Areas of Henderson County.
Pond Creek (overflow effects from Ohio River) | At the downstream side of Gray-Aldridge Road | +371 | +372 | Unincorporated Areas of Henderson County.
| Approximately 0.9 mile upstream of Martin and Martin Road | None | +373
Pond Creek Tributary 6 (overflow effects from Ohio River) | At the Pond Creek confluence | None | +373 | Unincorporated Areas of Henderson County.
| Approximately 600 feet downstream of KY-268 | None | +374
Race Creek (backwater effects from Ohio River) | From the Green River confluence to approximately 200 feet upstream of KY-1078 | None | +381 | Unincorporated Areas of Henderson County.
Sellers Ditch | At the Canoe Creek confluence | +377 | +376 | Unincorporated Areas of Henderson County.
| Approximately 200 feet upstream of Old Madison Road | +379 | +382
Sputzman Creek (backwater effects from Ohio River) | From approximately 0.8 mile upstream of the Green River confluence to approximately 2.0 miles upstream of the Green River confluence | None | +386 | Unincorporated Areas of Henderson County.
Sputzman Creek Tributary 1 (backwater effects from Ohio River) | From the Sputzman Creek confluence to approximately 1.2 miles upstream of the Sputzman Creek confluence | None | +386 | Unincorporated Areas of Henderson County.
Sputzman Creek Tributary 2 (backwater effects from Ohio River) | From the Sputzman Creek confluence to approximately 0.6 miles upstream of Sputzman Creek | None | +386 | Unincorporated Areas of Henderson County.
Sugar Creek (backwater effects from Ohio River) | From the Ohio River confluence to approximately 1,700 feet upstream of the Ohio River confluence | +377 | +376 | City of Henderson.
Tiger Ditch (formerly Highway 812 Tributary) | At the North Fork Canoe Creek confluence | +379 | +382 | City of Henderson, Unincorporated Areas of Henderson County.
| Approximately 150 feet downstream of Zion Road | None | +391
Tiger Ditch Tributary 1 | At the Tiger Ditch (formerly Highway 812 Tributary) confluence | None | +385 | City of Henderson, Unincorporated Areas of Henderson County.
| At the downstream side of Adams Lane | None | +390
Upper Canoe Creek | At the Sellers Ditch confluence | +379 | +382 | Unincorporated Areas of Henderson County.
| Approximately 3,800 feet upstream of the East Fork Canoe Creek confluence | +382 | +385
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Henderson
Maps are available for inspection at 222 1st Street, Henderson, KY 42419.
City of Robards
Maps are available for inspection at 20 North Main Street, Henderson, KY 42420.
Unincorporated Areas of Henderson County
Maps are available for inspection at 20 North Main Street, Henderson, KY 42420.

(Catalog of Federal Domestic Assistance No. 97.022, “Flood Insurance.”)

Dated: July 15, 2011.
Sandra K. Knight,
Deputy Federal Insurance and Mitigation Administrator, Mitigation, Department of Homeland Security, Federal Emergency Management Agency.

[FR Doc. 2011-19243 Filed 7-28-11; 8:45 am]

BILLING CODE 9110-12-P